DEPARTMENT OF AGRICULTURE

Animal and Plant Health Inspection Service

7 CFR Part 301

[Docket No. 02-121-4]

Mexican Fruit Fly; Removal of Regulated Area

AGENCY: Animal and Plant Health Inspection Service, USDA.

ACTION: Affirmation of interim rule as final rule.

SUMMARY: We are adopting as a final rule, without change, an interim rule that amended the Mexican fruit fly regulations by removing a portion of Los Angeles County, CA, from the list of regulated areas and removing restrictions on the interstate movement of regulated articles from that area. That action was necessary to relieve restrictions that were no longer necessary to prevent the spread of the Mexican fruit fly into noninfested areas of the United States.

DATES: The interim rule became effective on August 26, 2003.

FOR FURTHER INFORMATION CONTACT: Mr. Wayne Burnett, Operations Officer, Invasive Species and Pest Management, PPQ, APHIS, 4700 River Road Unit 137, Riverdale, MD 20737-1236; (301) 734-6553.

SUPPLEMENTARY INFORMATION:

Background

The Mexican fruit fly regulations, contained in 7 CFR 301.64 through 301.64-10 (referred to below as the regulations), were established to prevent the spread of the Mexican fruit fly to noninfested areas of the United States. The regulations impose restrictions on the interstate movement of regulated articles from the regulated areas.

In an interim rule effective on August 26, 2003, and published in the Federal Register on August 29, 2003 (68 FR 51876-51877, Docket No. 02-121-3), we amended the regulations in § 301.64-4 by removing a portion of Los Angeles County, CA, from the list of regulated areas based on our determination that the Mexican fruit fly had been eradicated from those areas. Upon the effective date of our August 2003 interim rule, there were no longer any areas in California designated as regulated areas because of the Mexican fruit fly.

Comments on the interim rule were required to be received on or before October 28, 2003. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 68 FR 51876-51877 on August 29, 2003.

Authority: 7 U.S.C. 7701-7772; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 15th day of July 2004.
Kevin Shea,
Administrator, Animal and Plant Health Inspection Service.

[FR Doc. 04-16542 Filed 7-20-04; 8:45 am]

BILLING CODE 3410-34-P